Title 3—

The President

Proclamation 10975 of September 25, 2025

Gold Star Mother's and Family's Day, 2025

By the President of the United States of America

A Proclamation

Since the dawn of our Republic, millions of brave men and women have answered the call of liberty to preserve peace, uphold our sovereignty, and defend the sacred ideals that have defined our Nation for nearly 250 years. Countless souls have perished in this noble pursuit—their supreme sacrifice borne by surviving families with profound sorrow, remarkable strength, and inspiring dignity. This Gold Star Mother's and Family's Day, we remember and honor the loved ones of those patriots who paid the highest price for our birthright of freedom.

The supreme sacrifice of our fallen heroes is neither solitary nor finite. Instead, it is shared by bereaved families who bury the fallen and wage an unending battle of unfathomable heartache that is not erased by the passage of time. Gold Star Families know better than anyone the tremendous cost of our freedom, paid for by the blood of their beloved husbands, wives, sons, daughters, fathers, and mothers, who forfeited their hopes and dreams so that others may live with peace, safety, and liberty in the greatest country on the face of the Earth. We are eternally grateful for their heroic sacrifice.

Last month, I was proud to meet with the Gold Star Families of the 13 service members who lost their lives in the withdrawal from Afghanistan in 2021. Four years later, these families carry a burden of grief that is compounded by the absence of accountability and compassion from the previous administration. As Commander in Chief, I will never betray our warfighters or turn my back on their families. They deserve our enduring support and respect and an aggressive policy of peace through strength so that fewer families are shattered on the field of battle.

As we observe Gold Star Mother's and Family's Day, the First Lady and I extend our steadfast love and unwavering devotion to those who bear the unbearable with grace and resilience. May you find comfort in knowing the sacrifice of your hero will never be forgotten.

The Congress, by Senate Joint Resolution 115 of June 23, 1936 (49 Stat. 1895 as amended), has designated the last Sunday in September as “Gold Star Mother's Day.”

NOW, THEREFORE, I, DONALD J. TRUMP, President of the United States of America, by virtue of the authority vested in me by the Constitution and the laws of the United States, do hereby proclaim Sunday, September 28, 2025, as Gold Star Mother's and Family's Day. I call upon all Government officials to display the flag of the United States over Government buildings, and I encourage the American people to display the flag and hold appropriate ceremonies as an expression of our Nation's gratitude and respect.

IN WITNESS WHEREOF, I have hereunto set my hand this twenty-fifth day of September, in the year of our Lord two thousand twenty-five, and of the Independence of the United States of America the two hundred and fiftieth.

[FR Doc. 2025-19138

Filed 9-29-25; 11:15 am]

Billing code 3395-F4-P